CORPORATION FOR NATIONAL AND COMMUNITY SERVICE

Approval of an Information Collection Currently Approved Through Emergency Clearance; Submission for OMB review; Comment Request

AGENCY: Corporation for National and Community Service.

ACTION: Notice.

SUMMARY: The Corporation for National and Community Service (hereinafter the “Corporation”), has submitted the following public information collection request (ICR) to the Office of Management and Budget (OMB) for review and approval in accordance with the Paperwork Reduction Act of 1995 (Pub. L. 104-13), (44 U.S.C. Chapter 35). Copies of the ICR, with applicable supporting documentation, may be obtained by calling the Corporation for National and Community Service, Kimberly Spring, ext. 543. Individuals who use a telecommunications device for the deaf (TTY-TDD) may call (202) 565-2799 between 8:30 a.m. and 5 p.m. eastern time, Monday through Friday.

Comments should be sent to the Office of Information and Regulatory Affairs, Attn: Ms. Katherine Astrich, OMB Desk Officer for the Corporation for National and Community Service, Office of Management and Budget, Room 10235, Washington, DC, 20503, (202) 395-4718, within 30 days from the date of this publication in the Federal Register.

The initial 60-day Federal Register notice for the Next Generation Grants Concept Paper and Application Instructions was published on June 9, 2004. The comment period for this notice has elapsed.

SUPPLEMENTARY INFORMATION: The OMB is particularly interested in comments that:

• Evaluate whether the proposed collection of information is necessary for the proper performance of the functions of the Corporation, including whether the information will have practical utility;

• Evaluate the accuracy of the agency's estimate of the burden of the proposed collection of information;

• Propose ways to enhance the quality, utility, and clarity of the information to be collected; and

• Propose ways to minimize the burden of the collection of information on those who are to respond, including through the use of appropriate automated, electronic, mechanical, or other technological collection techniques or other forms of information technology, e.g., permitting electronic submissions of responses.

Type of Review: Currently approved through emergency clearance.

Agency: Corporation for National and Community Service.

Title: Next Generation Grants Concept Paper and Application Instructions.

OMB Number: 3045-0087.

Frequency: Annually.

Affected Public: Non-profit organizations and institutions; State, Local or Tribal Government.

Number of Respondents: 400 for the Concept Paper Instructions; 40 for the Application Instructions.

Estimated Time Per Respondent: Ten hours for each set of instructions.

Total Burden Hours: 4400 hours (4000 for Concept Paper Instructions and 400 for Application Instructions).

Total Burden Cost (capital/startup): N/A.

Total Annual Cost (operating/maintaining systems or purchasing services): None.

Dated: December 3, 2004.
Robert Grimm,
Director, Department of Research and Policy Development.

[FR Doc. 04-27148 Filed 12-9-04; 8:45 am]

BILLING CODE 6050-$$-P